DEPARTMENT OF COMMERCE

National Oceanic and Atmospheric Administration

[I.D. 040301B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Scallop Advisory Panel and Scallop Plan Development Team (PDT) and Skate Oversight Committee in April 2001 to consider actions affecting New England fisheries in the exclusive economic zone (EEZ). Recommendations from these groups will be brought to the full Council for formal consideration and action, if appropriate.

DATES: The meetings will be held on April 26 and 27, 2001. See SUPPLEMENTARY INFORMATION for specific dates and times.

ADDRESSES: The meetings will be held at the Comfort Inn Airport, 1940 Post Road, Warwick, RI 02886; telephone: (401) 732-0470.

FOR FURTHER INFORMATION CONTACT: Paul J. Howard, Executive Director, New England Fishery Management Council; (978) 465-0492.

SUPPLEMENTARY INFORMATION:

Meeting Dates and Agendas

Thursday, April 26, 2001, 9:30 a.m.—Skate Oversight Committee Meeting

The committee will finalize Skate Fishery Management Plan (FMP) Goals and Objectives. The agenda will include continued development of draft Skate FMP alternatives for public hearings; alternatives may include specifications for a skate permit and catch reporting system, prohibitions on the possession of certain skate species, management measures for the bait and/or wing fishery, limited access provisions, possession limits, minimum size restrictions, and/or any other appropriate measures. The committee will possibly consider a control date for skate fishing.

Thursday, April 26, 2001, 10:00 a.m. and Friday, April 27, 2001, 8:30 a.m.—Joint Scallop Advisory Panel and PDT Meeting

The Scallop Industry Advisory Panel will meet jointly with the Scallop PDT to develop management alternatives for Amendment 10. These alternatives will include strategies for area rotation; new or revised gear restrictions; changes to the fishing year and the framework adjustment process; changes in permits and restrictions for limited access, history, and/or general permit categories; measures to reduce habitat impacts and/or bycatch; transferability of effort units; industry-funded research and observer programs; experimental fishing permit procedures; and other options as needed. The Council’s goals for Amendment 10 are to substantially revise the FMP to improve the management of the resource and increase optimum yield, to update the analysis of cumulative impacts of the FMP on the human environment, and to re-evaluate the Essential Fish Habitat (EFH) components of the FMP and minimize adverse effects on EFH. These alternatives will be submitted to the Council in July for approval to hold public hearings and gather comments on the draft amendment.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: April 5, 2001.
Richard W. Surdi,
Acting Director, Office of Sustainable Fisheries, National Marine Fisheries Service.

[FR Doc. 01-8812 Filed 4-9-01; 8:45 am]

BILLING CODE 3510-22-S